ADMINISTRATIVE CONFERENCE OF THE UNITED STATES

Committees on Collaborative Governance, Regulation, Rulemaking, Judicial Review, and Adjudication

ACTION: Notice of public meetings.

SUMMARY: Notice is hereby given of public meetings of five committees of the Assembly of the Administrative Conference of the United States (ACUS). Each committee will consider a research report and will prepare recommendations on the subject of the report for consideration by the full Conference. Complete details regarding each committee's meeting, related research reports, how to attend (including information about remote access and obtaining special accommodations for persons with disabilities), and how to submit comments to the committee can be found in the “Research” section of the ACUS Web site, http://www.acus.gov.

Comments may be submitted by e-mail to Comments@acus.gov, with the name of the relevant committee in the subject line, or by postal mail to “[Name of Committee] Comments” at the address given below.

ADDRESSES: The meetings will be held at 1120 20th Street, NW., Suite 706 South, Washington, DC 20036.

FOR FURTHER INFORMATION CONTACT: Designated Federal Officer for the individual committee, ACUS, Suite 706 South, 1120 20th Street, NW., Washington, DC 20036; Telephone 202-480-2080.

SUPPLEMENTARY INFORMATION:

Committee on Collaborative Governance

The Committee on Collaborative Governance will meet to consider a report by Professor James T. O'Reilly of the University of Cincinnati College of Law concerning the “Federal Advisory Committee Act in the 21st Century.” The objective of this study is to consider possible recommendations for improvements of the Act, particularly in light of technological and social developments since its passage.

Date: Wednesday, March 23, 2011, from 1 p.m. to 3:30 p.m.

Designated Federal Officer: David M. Pritzker.

Committee on Regulation

The Committee on Regulation will consider a report dealing with the timing, availability, confidentiality, and impact of comments submitted during agency rulemakings, as well as agencies' duty to reply to such comments. The consultant for this study is Professor Steven J. Balla of The George Washington University.

Date: Thursday, March 24, 2011, from 2 p.m. to 5 p.m.

Designated Federal Officer: Reeve T. Bull.

Committee on Rulemaking

The Committee on Rulemaking will consider a report on the legal issues agencies face in e-Rulemaking. The report was prepared by ACUS staff member Bridget C.E. Dooling.

Date: Friday, March 25, 2011, from 9 a.m. to 12 noon.

Designated Federal Officer: Emily F. Schleicher.

Committee on Judicial Review

The Committee on Judicial Review will consider a report dealing with possible solutions to the procedural trap posed by 28 U.S.C. 1500, a statute that regulates the Court of Federal Claims' jurisdiction over claims pending in other courts. The report was prepared by ACUS staff members Emily F. Schleicher and Jonathan R. Siegel.

Date: Monday, March 28, 2011, from 2 p.m. to 5 p.m.

Designated Federal Officer: Reeve T. Bull.

Committee on Adjudication

The Committee on Adjudication will consider a report by ACUS staff member Funmi E. Olorunnipa regarding the use of video hearings by Federal agencies, which examines the costs and benefits of video hearings as they are currently being used and the possibilities for expansion of use by Federal agencies.

Date: Wednesday, March 30, 2011, from 9 a.m. to 12 noon.

Designated Federal Officer: Funmi E. Olorunnipa.

Dated: March 2, 2011.
Jonathan R. Siegel,
Director of Research & Policy.

[FR Doc. 2011-5062 Filed 3-4-11; 8:45 am]

BILLING CODE 6110-01-P